ENVIRONMENTAL PROTECTION AGENCY

[FRL-6873-5]

Agency Information Collection Activities: Submission for OMB Review; Comment Request; National Pollutant Discharge Elimination System (NPDES) Compliance Assessment/Certification Information

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Pollutant Discharge Elimination System (NPDES) Compliance Assessment/Certification Information (OMB Control Number 2040-0110; EPA Number 1427.06; expiring on September 30, 2000). The ICR describes the nature of the information collection and its expected burden and cost; where appropriate, it includes the actual data collection instrument.

DATES: Comments must be submitted on or before October 23, 2000.

ADDRESSES: Send comments, referencing EPA ICR No. 1427.06 and OMB Control No. 2040-0110, to the following addresses: Sandy Farmer, U.S. Environmental Protection Agency, Collection Strategies Division (Mail Code 2822), 1200 Pennsylvania Ave, NW., Washington DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by e-mail at farmer.sandy@ epamail.epa.gov, or download off the Internet at http://www.epa.gov/icr and refer to EPA ICR No.1427.06. For technical questions about the ICR contact Betty West, at (202) 260-8486.

SUPPLEMENTARY INFORMATION: Title: National Pollutant Discharge Elimination System (NPDES) Compliance Assessment/Certification Assessment/Certification Information (OMB Control No.2040-0110; EPA ICR No. 1427.06) expiring on September 30, 2000. This is a request for extension of a currently approved collection.

Abstract: This ICR updates the burden and costs associated with the data requirements necessary for a permitting authority to determine whether an existing NPDES or sewage sludge permittee is in compliance with the conditions of its permit for the discharge of pollutants to waters of the United States or for the use or disposal of sewage sludge. Most compliance assessment data is generated by permittees and submitted to the appropriate permitting authority. The permitting authority uses the information to determine compliance with permit conditions and if any noncompliance poses a threat to human health or the environment. If noncompliance is detected, the permitting authority will take the appropriate enforcement action based on the frequency and the degree of seriousness of the violation.

This ICR calculates the burden associated with compliance assessment information (other than discharge monitoring reports) required by parts 122 and 501 and certification or alternative requirements contained in the effluent limitations guidelines and standards regulations for various point source categories. These requirements include routine submittals, such as annual certifications and reports submitted when a compliance schedule milestone is reached; non-routine submittals, such as an unanticipated bypass; and certifications for exemptions of monitoring requirements for certain industrial categories.

Where information submitted contains trade secrets or similar confidential business information, the respondent has the authority to request that this information be treated as confidential business information. All data so designated will be handled pursuant to 40 CFR part 2. Pursuant to section 308(b) of the Clean Water Act, effluent data may not be treated as confidential.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 03/23 /00 (65 FR 15633); two comments were received.

Burden Statement: The annual public reporting and recordkeeping burden for this collection of information is estimated to average 2.15 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: state and local governments, tribes, private industry, public and private entities

Estimated Number of Respondents: 16,532.

Frequency of Response: varies.

Estimated Total Annual Hour Burden: 1,026,264 hours.

Estimated Total Annualized Capital and Operating & Maintenance Cost Burden: $0.

Send comments on the Agency's need for this information, the accuracy of the provided burden estimates, and any suggested methods for minimizing respondent burden, including through the use of automated collection techniques to the addresses listed above. Please refer to EPA ICR No. 1427.06 in any correspondence.

Dated: September 13, 2000.
Oscar Morales,
Director, Collection Strategies Division.

[FR Doc. 00-24314 Filed 9-20-00; 8:45 am]

BILLING CODE 6560-50-P